DEPARTMENT OF DEFENSE

Office of the Secretary

[Transmittal Nos. 11-39]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 11-39 with attached transmittal, policy justification, and Sensitivity of Technology.

Dated: September 23, 2011.
Aaron Siegel,
Alternate OSD Federal Register Liaison Officer, Department of Defense.

BILLING CODE 5001-06-P

BILLING CODE 5001-06-C

Transmittal No. 11-39

Notice of Proposed Issuance of Letter of Offer Pursuant to Section 36(b)(1) of the Arms Export Control Act

(i) Prospective Purchaser: Taipei Economic and Cultural Representative Office in the United States pursuant to the Taiwan Relations Act (P. L. 96-8) and Executive Order 13014.

(ii) Total Estimated Value:

Major Defense Equipment * | $5.050 billion
Other | .250 billion
Total | 5.300 billion
* As defined in Section 47(6) of the Arms Export Control Act.

(iii) Description and Quantity or Quantities of Articles or Services under Consideration for Purchase: retrofit of 145 F-16A/B aircraft that includes sale of: 176 Active Electronically Scanned Array (AESA) radars; 176 Embedded Global Positioning System Inertial Navigation Systems; 176 ALQ-213 Electronic Warfare Management systems; upgrade 82 ALQ-184 Electronic Countermeasures (ECM) pods to incorporate Digital Radio Frequency Memory (DRFM) technology or purchase new ECM pods (AN/ALQ-211(V)9 Airborne Integrated Defensive Electronic Warfare Suites (AIDEWS) with DRFM, or AN/ALQ-131 pods with DRFM); 86 tactical data link terminals; upgrade 28 electro-optical infrared targeting Sharpshooter pods; 26 AN/AAQ-33 SNIPER Targeting Systems or AN/AAQ-28 LITENING Targeting Systems; 128 Joint Helmet Mounted Cueing Systems; 128 Night Vision Goggles; 140 AIM-9X SIDEWINDER Missiles; 56 AIM-9X Captive Air Training Missiles; 5 AIM-9X Telemetry kits; 16 GBU-31V1 Joint Direct Attack Munitions (JDAMs) kits; 80 GBU-38 JDAM kits; Dual Mode/Global Positioning System Laser-Guided Bombs (16 GBU-10 Enhanced PAVEWAY II or GBU-56 Laser JDAM, 80 GBU-12 Enhanced PAVEWAY II or GBU-54 Laser JDAM, 16 GBU-24 Enhanced PAVEWAY III); 64 CBU-105 Sensor Fused Weapons with Wind-Corrected Munition Dispensers (WDMD); 153 LAU-129 Launchers with missile interface; upgrade of 158 APX-113 Advanced Identification Friend or Foe Combined Interrogator Transponders; and HAVE GLASS II applications.

Also included are: ammunition, alternate mission equipment, engineering and design study on replacing existing F100-PW-220 engines with F100-PW-229 engines, update of Modular Mission Computers, cockpit multifunction displays, communication equipment, Joint Mission Planning Systems, maintenance, construction, repair and return, aircraft tanker support, aircraft ferry services, aircraft and ground support equipment, spare and repair parts, publications and technical documentation, personnel training and training equipment, U.S. Government and contractor engineering, technical, and logistics support, test equipment, site surveys, and other related elements of logistics support.

(iv) Military Department: Air Force (QBZ).

(v) Prior Related Cases, if any: FMS Case SKA-$5.4B-Nov92.

(vi) Sales Commission, Fee, etc., Paid, Offered, or Agreed to be Paid: None.

(vii) Sensitivity of Technology Contained in the Defense Article or Defense Services Proposed to be Sold: See Annex attached.

(viii) Date Report Delivered to Congress: 21 Sep 2011.

Policy Justification

Taipei Economic and Cultural Representative Office in the United States—Retrofit of F-16A/B Aircraft

The Taipei Economic and Cultural Representative Office in the United States has requested a retrofit of 145 F-16A/B aircraft that includes sale of: 176 Active Electronically Scanned Array (AESA) radars; 176 Embedded Global Positioning System Inertial Navigation Systems; 176 ALQ-213 Electronic Warfare Management systems; upgrade 82 ALQ-184 Electronic Countermeasures (ECM) pods to incorporate Digital Radio Frequency Memory (DRFM) technology or purchase new ECM pods (AN/ALQ-211(V)9 Airborne Integrated Defensive Electronic Warfare Suites (AIDEWS) with DRFM, or AN/ALQ-131 pods with DRFM); 86 tactical data link terminals; upgrade 28 electro-optical infrared targeting Sharpshooter pods; 26 AN/AAQ-33 SNIPER Targeting Systems or AN/AAQ-28 LITENING Targeting Systems; 128 Joint Helmet Mounted Cueing Systems; 128 Night Vision Goggles; 140 AIM-9X SIDEWINDER Missiles; 56 AIM-9X Captive Air Training Missiles; 5 AIM-9X Telemetry kits; 16 GBU-31V1 Joint Direct Attack Munitions (JDAMs) kits; 80 GBU-38 JDAM kits; Dual Mode/Global Positioning System Laser-Guided Bombs (16 GBU-10 Enhanced PAVEWAY II or GBU-56 Laser JDAM, 80 GBU-12 Enhanced PAVEWAY II or GBU-54 Laser JDAM, 16 GBU-24 Enhanced PAVEWAY III); 64 CBU-105 Sensor Fused Weapons with Wind-Corrected Munition Dispensers (WDMD); 153 LAU-129 Launchers with missile interface; upgrade of 158 APX-113 Advanced Identification Friend or Foe Combined Interrogator Transponders; and HAVE GLASS II applications. Also included are: ammunition, alternate mission equipment, engineering and design study on replacing existing F100-PW-220 engines with F100-PW-229 engines, update of Modular Mission Computers, cockpit multifunction displays, communication equipment, Joint Mission Planning Systems, maintenance, construction, repair and return, aircraft tanker support, aircraft ferry services, aircraft and ground support equipment, spare and repair parts, publications and technical documentation, personnel training and training equipment, U.S. Government and contractor engineering, technical, and logistics support, test equipment, site surveys, and other related elements of logistics support. The estimated cost is $5.3 billion.

This sale is consistent with United States law and policy as expressed in Public Law 96-8.

This proposed sale serves U.S. national, economic, and security interests by supporting the recipient's continuing efforts to modernize its armed forces and enhance its defensive capability. The proposed sale will help improve the security of the recipient and assist in maintaining political stability, military balance, and economic progress in the region.

The proposed retrofit improves both the capabilities and the reliability of the recipient's fleet of F-16A/B aircraft. The improved capability, survivability, and reliability of newly retrofitted F-16A/B aircraft will greatly enhance the recipient's ability to defend its borders.

The prime contractor will be the Lockheed Martin Aeronautics Company in Fort Worth, Texas. This proposed sale may involve the following additional contractors:

BAE Advance Systems | Greenland, New York
Boeing Integrated Defense Systems | St Louis, Missouri
Goodrich ISR Systems | Danbury, Connecticut
ITT Defense Electronics and Services | McLean, Virginia
ITT Integrated Structures | North Amityville, New York
ITT Night Vision | Roanoke, Virginia
L3 Communications | Arlington, Texas
Lockheed Martin Missile and Fire Control | Dallas, Texas
Lockheed Martin Simulation, Training, and Support | Fort Worth, Texas
Marvin Engineering Company | Inglewood, California
Northrop-Grumman Electro-Optical Systems | Garland, Texas
Northrop-Grumman Electronic Systems | Baltimore, Maryland
Pratt & Whitney | East Hartford, Connecticut
Raytheon Company | Goleta, California
Raytheon Space and Airborne Systems | El Segundo, California
Raytheon Missile System | Tucson, Arizona
Symetrics Industries | Melbourne, Florida
Terma | Denmark

At this time there are no known offset agreements proposed in connection with this potential sale.

Implementation of this sale will require the assignment of five (5) contractor representatives to the recipient to provide engineering and technical support for the first two years of the program. Additionally, approximately two trips per year will be required for U.S. Government personnel and contractor representatives for the duration of the program for program and technical support.

There will be no adverse impact on U.S. defense readiness as a result of this proposed sale.

Transmittal No. 11-39

Notice of Proposed Issuance of Letter of Offer Pursuant to Section 36(b)(1) of the Arms Export Control Act

Annex

Item No. vii

(vii) Sensitivity of Technology:

1. This sale will involve the release of sensitive technology to Taiwan. The F-16 A/B retrofit modification will modernize the existing fleet of Taiwan aircraft, equipping the F-16 airframe with advanced avionics and systems.

2. Sensitive and/or classified (up to Secret) elements of the proposed retrofit accessories, components, and associated software: AESA Radar; AN/APX-113 Advanced Identification Friend or Foe (AIFF); ALQ-213 Electronic Warfare Management System; AN/ALQ-184, AN/ALQ-131, or AN/ALQ-211V9 AIDEWS; AN/AAQ-33 SNIPER Targeting Pod or AN/AAQ-28 LITENING Advanced Targeting Pod; Embedded Global Positioning System/Inertial Navigation System, and HAVE GLASS I/II without infrared top coat. Additional sensitive areas include operating manuals and maintenance technical orders containing performance information, operating and test procedures, and other information related to support operations and repair. The hardware, software, and data identified are classified to protect vulnerabilities, design and performance parameters and other similar critical information.

3. The AESA radar (manufacturer to be determined) contains the latest digital technology available in an electronically scanned antenna, including higher processor power, higher transmission power, more sensitive receiver electronics, ground moving detection capability, and Synthetic Aperture Radar (SAR), which creates higher-resolution ground maps from a greater distance than previous versions of the F-16 radar. The retrofit features an increase in detection range of air targets, an increase in processing speed and memory, as well as significant improvements in all modes, jam resistance, and false alarm rates. Complete hardware is classified Confidential; major components and subsystems are classified Confidential; software is classified Secret; and technical data and documentation are classified up to Secret.

4. The AN/APX-113 Identification Friend or Foe (IFF) system is Unclassified as only commercial IFF will be offered.

5. The AN/ALQ-184, AN/ALQ-131, or AN/ALQ-211V9 Airborne Integrated Defensive Electronic Warfare Suite (AIDEWS) provides passive radar warning, wide spectrum Digital RF Memory (DRFM) based jamming, and control and management of the entire EW system. The system is included in an external pod that can be mounted on a properly configured F-16. The commercially developed system software and hardware is Unclassified. The system is classified Secret when loaded with a U.S.-derived EW database.

6. The Joint Helmet Mounted Cueing System (JHMCS) is a modified HGU-55/P helmet that incorporates a visor-projected Heads-Up Display (HUD) to cue weapons and aircraft sensors to air and ground targets. Hardware is Unclassified; technical data and documents are classified up to Secret.

7. The AN/AAQ-33 SNIPER targeting system is Unclassified but contains technology representing the latest state-of-the-art in several areas. Information on performance and inherent vulnerabilities is classified Secret. Software (object code) is classified Confidential.

8. The AN/AAQ-28 LITENING targeting system is Unclassified but contains technology representing the latest state-of-the-art in several areas. Information on performance and inherent vulnerabilities is classified Secret. Software (object code) is classified Confidential. Sensitive elements include the forward looking infrared (FLIR) sensors, Laser Pulse Interval Modulation (PIM) and doublet coding, and the AGM-65 Missile Boresight Correlator (MBC), and ECCM features that increase capability in a jamming environment.

9. The AIM-9X SIDEWINDER Missile is an air-to-air guided missile that employs a passive infrared (IR) target acquisition system that features digital technology and micro-miniature solid-state electronics. The AIM-9X All-Up-Round (AUR) is Confidential, major components and subsystems range from Unclassified to Confidential, and technical data and other documentation are classified up to Secret.

10. The CBU-105D/B Sensor Fused Weapon (SFW) is an advanced 1,000-pound class cluster bomb munition containing sensor fused sub-munitions that are designed to attack and defeat a wide range of moving or stationary land and maritime threats. The SFW meets U.S. policy regarding cluster munition safety standards.

Major components include the SUU-66 Tactical Munitions Dispenser (TMD), ten (10) BLU-108 sub-munitions, each with four (4) “hockey puck” shaped skeet infrared sensing projectiles for a total of forty (40) warheads. The munition will be delivered in its All-Up-Round (AUR) configuration. This configuration is Unclassified.

11. The GBU-24 Enhanced PAVEWAY III (EPIII) is a low level laser and GPS-guided munitions that can be employed at high, medium and low altitudes. Information revealing target designation tactics and associated aircraft maneuvers, the probability of destroying specific/peculiar targets, vulnerabilities regarding countermeasures and the electromagnetic environment is classified Secret. Information revealing test boundaries, operational envelop and release points, the probability of destroying common/unspecified targets, the number of simultaneous lasers the laser seeker head can discriminate, the terminal impact conditions, the operational flight programming, laser seeker sensitivity and range, laser seeker field of view and field of regard, laser seeker tracking gate widths, laser pulse stability requirements, laser pulse width discrimination details, and data on the radar/infra-red frequency is classified Confidential.

12. The Dual Mode Weapon—Enhanced PAVEWAY II (EPW) and Laser Joint Direct Attack Munition (LJDAM). Dual Mode weapons combine laser and GPS guidance modes into a single weapon. Both the EPW and LJDAM weapons are built by adding aerodynamic stabilization kits, guidance and control units, antennas and seeker components to the nose, tail and body of general purpose bombs. They can be added to 500lb and 2000lb class of bombs. These weapons improve the accuracy of unguided, general-purpose bombs. The GPS guidance allows for delivery in adverse weather. The laser guidance mode of these weapons allows for engagement of some mobile targets. The built-up weapons with components are Unclassified. Information revealing employment tactics, operational parameters, the probability of destroying targets, vulnerabilities regarding countermeasures and the electromagnetic environment is classified up to Confidential.

13. The Joint Direct Attack Munition (JDAM) is a guidance tail kit that converts unguided free-fall bombs into accurate, adverse weather “smart” munitions. With the addition of a new tail section that contains an inertial navigational system and a global positioning system guidance control unit, JDAM improves the accuracy of unguided, general-purpose bombs in any weather condition. JDAM can be launched from very low to very high altitudes in a dive, toss and loft, or in straight and level flight with an on-axis or off-axis delivery. JDAM enables multiple weapons to be directed against single or multiple targets on a single pass. The JDAM AUR and all of its components are unclassified, technical data for JDAM is classified up to Secret.

14. If a technologically advanced adversary were to obtain knowledge of the specific hardware and software, the information could be used to develop countermeasures, which might reduce weapon system effectiveness or be used in the development of a system with similar or advanced capabilities.

[FR Doc. 2011-25021 Filed 9-28-11; 8:45 am]

BILLING CODE 5001-06-P